DEPARTMENT OF HEALTH AND HUMAN SERVICES

Administration for Children and Families

Proposed Information Collection Activity; Comment Request

Title: Performance Measurement On-Line Tool (PMOTOOL).

OMB No.: New Collection.

Description: The Performance Measurement On-line Tool was designed by the Children's Bureau to collect data, in an automated format, from specified discretionary grants funded by the Children's Bureau. The data collected by this instrument will be submitted by individual discretionary grantees funded under the following programs: Abandoned Infants Assistance Program, Infant Adoption Awareness Training Program, Adoption Opportunities Program, Child Abuse and Neglect Program and the Child Welfare Training Program. Grantees will submit this information on a semi-annual basis in conjunction with their semi-annual program progress report.

The purpose of this data collection is to assist the Children's Bureau in responding to the Program Assessment Rating Tool (PART), an OMB-mandated reporting system that focuses on quantifiable outcome measures, directly related to the expected social impact or public benefit of each Federal program. The Children's Bureau will use the aggregated data collected under each Federal program. The measurable outcomes will serve as evidence that the federally funded programs are making progess toward achieving broad, legislated program goals.

Respondents: All competitive discretionary grant programs funded by the Children's Bureau).

Annual Burden Estimates
Instrument | Number of respondents | Number of responses per respondent | Average burden hours per response | Total burden hours
Performance Measurement On-line Tool | Abandoned Infants Assistance Program Range 30-36 | 2 per fiscal year | 1 hour per response | Range 60-72.
Performance Measurement On-line Tool | Infant Adoption Awareness Program Ranges 4-6 | 3 per fiscal year | 1 hour per response | Range 8-12.
Performance Measurement On-line Tool | Adoption Opportunities Program Range 45-55 | 2 per fiscal year | 1 hour per response | Range 90-110.
Performance Measurement On-line Tool | Child Abuse and Neglect Program Range 25-32 | 2 per fiscal year | 1 hour per response | Range 50-64.
Performance Measurement On-line Tool | Child Welfare Training Program Range 45-55 | 2 per fiscal year | 1 hour per response | Range 90-110.
Total | Range 149-184 |  |  | Range 298-368.

In compliance with the requirement of Section 3506(c)(2)(A) of the Paperwork Reduction Act of 1995, the Administration for Children and Families in soliciting public comment on the specific aspects of the information collection described above. Copies of the proposed collection of information can be obtained and comments may be forwarded by writing to the Administration for Children and Families, Office of Information Services, 370 L'Enfant Promenade, SW., Washington, DC 20447, Attn: ACF Reports Clearance Officer. The e-mail address is: grjohnson@acf.hhs.gov. All requests should be identified by the title of the information collection.

The Department specifically requests comment on: (a) Whether the proposed collection of information is necessary for the proper performance of the functions of the agency, including whether the information shall have practical utility; (b) the accuracy of the agency's estimate of the burden of the proposed collection of information; (c) the quality, utility and clarity of information to be collected; and (d) ways to minimize the burden of the collection of information on respondents, including through the use of automated collection techniques or other forms of information technology. Consideration will be given to comments and suggestions submitted within 60 days of publication.

Dated: August 15, 2005.
Robert Sargis,
Reports Clearance Officer.

[FR Doc. 05-16638 Filed 8-22-05; 8:45 am]

BILLING CODE 4184-01-M